DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than August 17, 2015.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: Rural Access to Emergency Devices Grant Program OMB No. 0915-xxxx—NEW.

Abstract: This program is authorized by the Public Health Improvement Act Title IV—Cardiac Arrest Survival Act of 2000, Subtitle B—Rural Access to Emergency Devices, Section 413, (42 U.S.C. 254c (Note) and the Consolidated and Further Continuing Appropriations Act (Pub. L. 113-235). The purpose of this grant program is to: (1) Purchase automated external defibrillators (AEDs) that have been approved, or cleared for marketing, by the Food and Drug Administration; (2) provide defibrillator and basic life support training in AED usage through the American Heart Association, the American Red Cross, or other nationally recognized training courses; and (3) place the AEDs in rural communities with local organizations.

Need and Proposed Use of the Information: For this program, performance measures were drafted to provide data useful to the program and to enable HRSA to provide aggregate program data required by Congress under the Government Performance and Results Act (GPRA) of 1993 (Pub. L. 103-62). These measures cover the principal topic areas of interest to the Federal Office of Rural Health Policy, including: (a) The number of counties served by the program; (b) the number of AEDs purchased and placed and the locations of the placements; (c) the number of training sessions and the number of individuals trained; (d) the number of times an AED is used and the outcome; and (e) the number of lay persons and first responders who administer CPR or use an AED on an individual. These measures will speak to the Federal Office of Rural Health Policy's progress toward meeting the set goals.

A 60-day Federal Register notice was published February 20, 2015 (80 FR 9270-9271). There were no comments.

Likely Respondents: Rural Access to Emergency Devices Grant Program award recipients.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Rural Access to Emergency Devices Grant Program | 12 | 1 | 12 | 5.5 | 66
Total | 12 |  |  |  | 66

Jackie Painter,
Director, Division of the Executive Secretariat.

[FR Doc. 2015-17550 Filed 7-16-15; 8:45 am]

BILLING CODE 4165-15-P